DEPARTMENT OF DEFENSE

Office of the Secretary

Board of Regents, Uniformed Services University of the Health Sciences; Quarterly Meeting Notice

AGENCY: Uniformed Services University of the Health Sciences (USU), DoD.

ACTION: Quarterly meeting notice.

SUMMARY: Under the provisions of the Federal Advisory Committee Act of 1972 (5 U.S.C., Appendix, as amended), the Government in the Sunshine Act of 1976 (5 U.S.C. 552b, as amended), and 41 CFR 102-3.150, the Department of Defense announces the following meeting of the Board of Regents, Uniformed Services University of the Health Sciences.

DATES: Tuesday, July 30, 2013, from 8:00 a.m. to 11:30 a.m. (Open Session) and 11:30 a.m. to 1:00 p.m. (Closed Session).

ADDRESSES: Everett Alvarez Jr. Board of Regents Room (D3001), Uniformed Services University of the Health Sciences, 4301 Jones Bridge Road, Bethesda, Maryland 20814.

FOR FURTHER INFORMATION CONTACT: S. Leeann Ori, Designated Federal Officer, 4301 Jones Bridge Road, Bethesda, Maryland 20814; telephone 301-295-3066.

SUPPLEMENTARY INFORMATION: Purpose of the Meeting: The purpose of the meeting is to review the operations of USU, particularly the academic affairs and provide advice to the USU President and the Director of Tricare Management Activity. These actions are necessary for the University to pursue its mission, which is to provide outstanding healthcare practitioners and scientists to the uniformed services, and to obtain institutional accreditation.

Agenda: The actions that will take place include the approval of minutes from the Board of Regents Meeting held May 17, 2013; recommendations regarding the approval of faculty appointments and promotions in the School of Medicine; recommendations regarding the awarding of master's and doctoral degrees in the biomedical sciences and public health; approval of awards and honors; a review of the USU mission, vision and values; and a Board recommendation regarding the DoD civilian hiring freeze. The President, USU will provide a report and information from both academic and administrative University officials will be presented during the meeting. A closed session will be held to discuss personnel actions and to conduct the annual assessment of the USU President.

Meeting Accessibility: Pursuant to Federal statute and regulations (5 U.S.C. 552b and 41 CFR 102-3.140 through 102-3.165) and the availability of space, the meeting is open to the public from 8:00 a.m. to 11:30 a.m. Seating is on a first-come basis. Members of the public wishing to attend the meeting should contact S. Leeann Ori at the address and phone number in FOR FURTHER INFORMATION CONTACT. Mrs. Ori can also provide base access procedures.

Pursuant to 5 U.S.C. 552b(c)(2) and 5 U.S.C. 552b(c)(6), the Department of Defense has determined that a portion of the meeting shall be closed to the public. The Under Secretary of Defense (Personnel and Readiness), in consultation with the Office of the DoD General Counsel, has determined in writing that a portion of the committee's meeting will be closed as it contains information related solely to the internal personnel rules and practices of the agency and the subject matter involves personal and private observations.

Written Statements: Interested persons may submit a written statement for consideration by the Board of Regents. Individuals submitting a written statement must submit their statement to the Designated Federal Officer at the address listed in FOR FURTHER INFORMATION CONTACT. If such statement is not received at least 5 calendar days prior to the meeting, it may not be provided to or considered by the Board of Regents until its next open meeting. The Designated Federal Officer will compile all timely submissions with the Board of Regents Chairman and ensure such submissions are provided to Board of Regents Members before the meeting.

Dated: July 10, 2013.
Aaron Siegel,
Alternate OSD Federal Register Liaison Officer, Department of Defense.

[FR Doc. 2013-16862 Filed 7-12-13; 8:45 am]

BILLING CODE 5001-06-P